DEPARTMENT OF HEALTH AND HUMAN SERVICES

National Institutes of Health

Proposed Collection: 30-Day Comment Request; National Cancer Institute (NCI) Generic Clearance for Application Information From Fellows, Interns, and Trainees

AGENCY: National Institutes of Health, HHS.

ACTION: Notice.

SUMMARY: In compliance with the requirement of the Paperwork Reduction Act of 1995 to provide an opportunity for public comment on proposed data collection projects, the National Institutes of Health, National Cancer Institute (NCI) will publish periodic summaries of proposed projects to be submitted to the Office of Management and Budget (OMB) for review and approval.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact Melissa Park, PRA Liaison, Office of Management Policy and Compliance, National Cancer Institute, 9609 Medical Center Drive, Room 2E196, Bethesda, Maryland 20892 or call non-toll-free number (240) 276-5717 or email your request, including your address to: melissa.park@nih.gov. Formal requests for additional plans and instruments must be requested in writing.

SUPPLEMENTARY INFORMATION: This proposed information collection was previously published in the Federal Register on April 30, 2025 (Vol. 90 FR 17938) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection Title: National Cancer Institute (NCI) Generic Clearance for Application Information from Fellows, Interns, and Trainees, 0925-0761, Expiration Date 7/31/2025, EXTENSION, National Cancer Institute (NCI), National Institutes of Health (NIH).

Need and Use of Information Collection: The “Generic Clearance for Application Information from Fellows, Interns, and Trainees” request supports research experiences for high school, post-baccalaureate (including post-masters) individuals, graduate students, and postdoctoral fellows, interns, and trainees in a multidisciplinary environment at the NCI. This information collection request is for applications, reference letters, letters of intent and interest, and other related documentation necessary for various Divisions, Offices, and Centers at NCI to evaluate the eligibility, merits, and quality of potential candidates. The applications will also assist in matching potential candidates to various training and internship programs. The information is for internal use to make decisions about candidates invited to visit and attend NCI fellowships, internships, and other training opportunities.

OMB approval is requested for 3 years. There are no costs to respondents other than their time. The total estimated annualized burden hours are 22,215 hours.

Estimated Annualized Burden Hours
Category of respondent | Number of respondents | Number of responses per respondent | Average time per response (in hours) | Total annual burden hours
Individuals (Applicants) | 9,873 | 1 | 45/60 | 7,405
Individuals (Reference Letters) | 29,619 | 1 | 30/60 | 14,810
Totals |  | 39,492 |  | 22,215

Dated: July 21, 2025.
Melissa Park,
Project Clearance Liaison, National Cancer Institute, National Institutes of Health.

[FR Doc. 2025-13878 Filed 7-23-25; 8:45 am]

BILLING CODE 4140-01-P